DEPARTMENT OF TRANSPORTATION

Federal Aviation Administration

14 CFR Part 11

[Docket No. FAA-2011-1136; Amdt. No. 11-59]

RIN 2120-AJ33

Air Carrier Contract Maintenance Requirements

AGENCY: Federal Aviation Administration, DOT.

ACTION: Final rule; technical amendment.

SUMMARY: On March 4, 2015, the FAA published a final rule entitled “Air Carrier Contract Maintenance Requirements” which will result in new information collection requirements. This technical amendment updates the FAA's list of OMB control numbers to display the control number associated with the approved information collection activities in the “Air Carrier Contract Maintenance Requirements” final rule.

DATES: Effective March 16, 2016.

FOR FURTHER INFORMATION CONTACT: For technical questions concerning this action, contact Wende T. DiMuro, AFS-330, Federal Aviation Administration, 800 Independence Avenue SW., Washington, DC 20591; telephone (202) 267-1685; email wende.t.dimuro@faa.gov.

SUPPLEMENTARY INFORMATION:

Background

On March 4, 2015, the FAA published a final rule entitled “Air Carrier Contract Maintenance Requirements” (80 FR 11537). This final rule amends the maintenance regulations for domestic, flag, and supplemental operations, and for commuter and on-demand operations for aircraft type certificated with a passenger seating configuration of 10 seats or more (excluding any pilot seat). The new rules require affected air carriers and operators to develop policies, procedures, methods, and instructions for performing contract maintenance that are acceptable to the FAA, and include them in their maintenance manuals. This rule also requires the air carriers and operators to provide a list to the FAA of all persons with whom they contract their maintenance. These changes are needed because contract maintenance has increased to over 70 percent of all air carrier maintenance, and numerous investigations have shown deficiencies in maintenance performed by contract maintenance providers.

This final rule will result in new information collection requirements. As required by the Paperwork Reduction Act of 1995 (44 U.S.C. 3507(d)), the FAA submitted these information collection amendments to OMB for its review.

On February 25, 2016, OMB approved the information collection request. The OMB control number is 2120-0766.

Technical Amendment

The FAA lists OMB control numbers assigned to its information collection activities in 14 CFR 11.201(b). Accordingly, this technical amendment updates 14 CFR 11.201(b) to display OMB control number 2120-0766 associated with the information collection activities in the final rule, Air Carrier Contract Maintenance Requirements. See 80 FR 11537.

Because this amendment is technical in nature and results in no substantive change, the FAA finds that the notice and public procedures under 5 U.S.C. 553(b) are unnecessary. For the same reason, the FAA finds good cause exists under 5 U.S.C. 553(d)(3) to make the amendment effective in less than 30 days.

List of Subjects in 14 CFR Part 11

Administrative practice and procedure, Reporting and recordkeeping requirements.

The Amendment

In consideration of the foregoing the Federal Aviation Administration amends 14 CFR Chapter I as follows:

PART 11—GENERAL RULEMAKING PROCEDURES

1. The authority citation for part 11 continues to read as follows:

Authority: 49 U.S.C. 106(f), 106(g), 40101, 40103, 40105, 40109, 40113, 44110, 44502, 44701-44702, 44711, and 46102.

2. In § 11.201 amend the table in paragraph (b) by revising the entries for Part 121 and Part 135 to read as follows:

§ 11.201 Office of Management and Budget (OMB) control numbers assigned under the Paperwork Reduction Act.

* * * * *

(b) * * *

14 CFR part or section identified and described | Current OMB control No.
* * * * * * *
Part 121 | 2120-0008, 2120-0028, 2120-0535, 2120-0571, 2120-0600, 2120-0606, 2120-0614, 2120-0616, 2120-0631, 2120-0651, 2120-0653, 2120-0691, 2120-0702, 2120-0739, 2120-0760, 2120-0766.
* * * * * * *
Part 135 | 2120-0003, 2120-0028, 2120-0039, 2120-0535, 2120-0571, 2120-0600, 2120-0606, 2120-0614, 2120-0616, 2120-0620, 2120-0631, 2120-0653, 2120-0766.
* * * * * * *

Issued in Washington, DC under the authority provided by 49 U.S.C. 106(f) and 44701(a) on March 8, 2016.
Lirio Liu,
Director, Office of Rulemaking.

[FR Doc. 2016-05862 Filed 3-15-16; 8:45 am]

BILLING CODE 4910-13-P